DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Request for Revocation in Part.

SUMMARY: The Department of Commerce (the Department) has received requests to conduct administrative reviews of various antidumping and countervailing duty orders and findings with August anniversary dates. In accordance with the Department's regulations, we are initiating those administrative reviews. The Department also received a request to revoke two countervailing duty orders in part.

EFFECTIVE DATE: September 28, 2005.

FOR FURTHER INFORMATION CONTACT: Sheila E. Forbes, Office of AD/CVD Operations, Office 4, Import Administration, International Trade Administration, U.S. Department of Commerce, 14th Street and Constitution Avenue, N.W., Washington, D.C. 20230, telephone: (202) 482-4697.

SUPPLEMENTARY INFORMATION:

Background

The Department has received timely requests, in accordance with 19 CFR 351.213(b)(2002), for administrative reviews of various antidumping and countervailing duty orders and findings with August anniversary dates. The Department also received a timely request to revoke in part the countervailing duty orders on Pure and Alloy Magnesium from Canada.

Initiation of Reviews:

In accordance with sections 19 CFR 351.221(c)(1)(i), we are initiating administrative reviews of the following antidumping and countervailing duty orders and findings. We intend to issue the final results of these reviews not later than August 31, 2006.

Antidumping Duty Proceedings | Period to be Reviewed
ARGENTINA: Oil Country Tubular Goods
A-357-810 | 8/1/04 - 7/31/05
Siderca, S.A.I.C
ARGENTINA: Seamless Line and Pressure Pipe
A-357-809 | 8/1/04 - 7/31/05
Siderca, S.A.I.C
BRAZIL: Seamless Pipe
A-351-826 | 8/1/04 - 7/31/05
V & M do Brasil S.A./V & M Brazil
CANADA: Corrosion-Resistant Carbon Steel Flat Products
A-122-822 | 8/1/04 - 7/31/05
Dofasco Inc
Stelco Inc
FRANCE: Corrosion-Resistant Carbon Steel Flat Products
A-427-808 | 8/1/04 - 7/31/05
Duferco Coating SA
Sorral SA
GERMANY: Certain Cut-to-Length Carbon Steel Plate
A-428-816 | 8/1/04 - 7/31/05
AG der Dillinger Huttenwerke
GERMANY: Seamless Line and Pressure Pipe
A-428-820 | 8/1/04 - 7/31/05
Vallourec & Mannesmann Tubes - V & M Deutschland GmbH
Mannesmann Pipe & Steel Corporation
Benteler Stahl/Rohr Gmbh
Benteler Steel and Tube Corporation
ITALY: Granular Polytetrafluoroethylene (PTFE) Resin
A-475-703 | 8/1/04 - 7/31/05
Solvay Solexis, S.p.A
JAPAN: Corrosion-Resistant Carbon Steel Flat Products
A-588-824 | 8/1/04 - 7/31/05
Nippon Steel Corporation
Kawasaki Steel Corporation
JAPAN: Granular Polytetrafluoroethylene Resin
A-588-707 | 8/1/04 - 7/31/05
Asahi Glass Fluroropolymers, Ltd
JAPAN: Oil Country Tubular Goods
A-588-835 | 8/1/04 - 7/31/05
JFE Steel Corporation
Nippon Steel Corporation
NKK Tubes
Sumitomo Metal Industries, Ltd
MEXICO: Carbon and Alloy Seamless Standard, Line and Pressure Pipe (Over 4 1/2 Inches)
A-201-827 | 8/1/04 - 7/31/05
Tubos de Acero de Mexico, S.A.
MEXICO: Gray Portland Cement and Clinker
A-201-802 | 8/1/04 - 7/31/05
Apasco, S.A. de C.V
CEMEX, S.A. de C.V
GCC Cemento, S.A. de C.V
MEXICO: Oil Country Tubular Goods
A-201-817 | 8/1/04 - 7/31/05
Hylsa, S.A. de C.V
Tubos de Acero de Mexico, S.A
REPUBLIC OF KOREA: Corrosion-Resistant Carbon Steel Flat Products
A-580-816 | 8/1/04 - 7/31/05
Dongbu Steel Co., Ltd
Hyundai HYSCO
Pohang Iron and Steel Co., Ltd./Pohang Coated Steel Co., Ltd./Pohang Steel Industries Co., Ltd
Union Steel Manufacturing Co., Ltd
REPUBLIC OF KOREA: Oil Country Tubular Goods
A-580-825 | 8/1/04 - 7/31/05
Husteel Co., Ltd
SeAH Steel Corporation.
REPUBLIC OF KOREA: Structural Steel Beams
A-580-841 | 8/1/04 - 7/31/05
Dongkuk Steel Mill Co., Ltd
INI Steel Company
ROMANIA: Certain Small Diameter Carbon and Alloy Seamless Standard, Line and Pressure Pipe
A-485-805 | 8/1/04 - 7/31/05
S.C. Silcotub S.A
ROMANIA: Cut-to-Length Carbon Steel Plate
A-485-803 | 8/1/04 - 7/31/05
MS Galati or Metalexportimport, S.A
Mittal Steel (successor to Ispat Sidex)
Mittal Steel Galati S.A
SOCIALIST REPUBLIC OF VIETNAM: Frozen Fish Fillets¹
A-552-801 | 8/1/04 - 7/31/05
An Giang Agriculture and Foods Import Export Company (aka Afiex,
A. Seafood, Afiex Seafood, or An Giang Afiex Company)
An Giang Agriculture Technology Service Company (aka ANTESCO)
An Giang Fisheries Import and Export Joint Stock Company (aka Agifish)
An Giang Agriculture and Foods Import-Export Company (An Giang AFIEX Co.)
Anhaco
Bamboo Food Co., Ltd.
Binh Dinh Import Export Company (aka Imex Binhdinh)
Can Tho Agricultural and Animal Products Import Export Company (aka CATACO)
Can Tho (or Cantho) Agricultural and Animal Products Import Export
(or IMEX) Company; and CATACO
Can Tho Animal Fishery Products Processing Export Enterprise (aka Cafatex)
Da Nang Seaproducts Import-Export Corporation (aka Da Nang or Seaprodex Danang)
Duyen Hai Foodstuffs Processing Factory (aka Coseafex)
Gepimex 404 Company
Hai Vuong Co., Ltd
Kien Giang Ltd
Mekongfish Company (aka Mekonimex or Mekong Fisheries Joint Stock Company)
Nam Viet Company Limited (aka Navico or Navifishco)
Phan Quan Trading Co., Ltd
Phu Thanh Frozen Factory (aka Phu Thanh Company, Co.)
Phuoc My Seafoods Processing Factory
QVD Food Company Ltd
Seaprodex Saigon (aka Ho Chi Minh City Seaproducts Import-Export Corporation)
Tan Thanh Loi Frozen Food Co. Ltd
Thangloi Frozen Food Enterprise
Thanh Viet Co. Ltd
Thuan Hung Co., Ltd
Tin Thinh Co. Ltd
Viet Hai Seafood Company Limited (aka Vietnam Fish-One Co., Ltd.)
Vinh Long Import-Export Company (aka Imex Cuu Long)
Vifaco
Vinh Hoan Company, Ltd
THAILAND: Polyethylene Retail Carrier Bags
A-549-821 | 1/26/04 - 7/31/05
Advance Polybag Inc
Alpine Plastics Inc
APEC Film Ltd
API Enterprises Inc
Apple Film Co., Ltd
CP Packaging Industry Co. Ltd
King Pak Ind. Co. Ltd
Naraipak Co., Ltd
Sahachit Watana Plastic Ind. Co., Ltd
Thai Plastic Bags Industries Co., Ltd
Universal Polybag Co., Ltd
Winner's Pack Co., Ltd
THE PEOPLE'S REPUBLIC OF CHINA: Floor-Standing Metal-Top Ironing Tables²
A-570-888 | 2/3/04 - 7/31/05
Forever Holdings Limited
Since Hardware (Guangzhou) Co., Ltd
Shunde Yongjian Housewares Co., Ltd. ( aka Foshan Shunde Yongjian Houseware & Hardware Co., Ltd.)
THE PEOPLE'S REPUBLIC OF CHINA: Petroleum Wax Candles³
A-570-504 | 8/1/04 - 7/31/05
Qingdao Youngson Industrial Co., Ltd
THE PEOPLE'S REPUBLIC OF CHINA: Polyethylene Retail Carrier Bags⁴
A-570-886 | 1/26/04 - 7/31/05
Crown Polyethylene Products (Int'l) Ltd
Dongguan Nozawa Plastics and United Power Packaging (collectively “Nozawa”)
Dongguan Nozawa Plastics
Dongguan Nozawa Plastic Co., Ltd
Dong Guan (Dong Wan) Nozawa Plastic Co., Ltd
Dongguan Nozawa Plastic Products Co., Ltd
United Power Packaging
United Power Packaging Limited
United Power Packaging Ltd
High Den Enterprises Ltd
Rally Plastics Co., Ltd
Sea Lake Polyethylene Enterprise Ltd
Shanghai Glopack, Inc
Shanghai New Ai Lian Import & Export Co., Ltd
Countervailing Duty Proceedings
CANADA: Alloy Magnesium
C-122-815 | 1/1/04 - 12/31/04
Magnola Metallurgy Inc
Norsk Hydro Canada Inc
CANADA: Pure Magnesium
C-122-815 | 1/1/04 - 12/31/04
Magnola Metallurgy Inc
Norsk Hydro Canada Inc
FRANCE: Corrosion-Resistant Carbon Steel Flat Products
C-427-810 | 1/1/04 - 12/31/04
Duferco Coating SA
Sorral SA
REPUBLIC OF KOREA: Corrosion-Resistant Carbon Steel Flat Products
C-580-818 | 1/1/04 - 12/31/04
Dongbu Steel Co., Ltd
POSCO
REPUBLIC OF KOREA: Stainless Steel Sheet and Strip in Coils
C-580-835 | 1/1/04 - 12/31/04
Dai Yang Metal Co., Ltd
REPUBLIC OF KOREA: Dynamic Random Access Memory Semiconductors
C-580-851 | 1/1/04 - 12/31/04
Hynix Semiconductor Inc. (formerly Hyundai Electronics Industries Co., Ltd.)
Suspension Agreements
None
¹ If one of the above named companies does not qualify for a separate rate, all other exporters of frozen fish fillets from the Socialist Republic of Vietnam who have not qualified for a separate rate are deemed to be covered by this review as part of the single Vietnam entity of which the named exporters are a part.
² If one of the above named companies does not qualify for a separate rate, all other exporters of floor-standing metal-top ironing tables from the People's Republic of China who have not qualified for a separate rate are deemed to be covered by this review as part of the single PRC entity of which the named exporters are a part.
³ If one of the above named companies does not qualify for a separate rate, all other exporters of petroleum wax candles from the People's Republic of Chinawho have not qualified for a separate rate are deemed to be covered by this review as part of the single PRC entity of which the named exporters are a part.
⁴ If one of the above named companies does not qualify for a separate rate, all other exporters of polyethylene retail carrier bags from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistant with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(i).

Dated: September 20, 2005.
Holly A. Kuga,
Senior Office Director, AD/CVD Operations, Office 4, for Import Administration.

[FR Doc. 05-19364 Filed 9-27-05; 8:45 am]

BILLING CODE 3510-DS-S